DEPARTMENT OF TRANSPORTATION

Federal Transit Administration

Fiscal Year 2010 Public Transportation on Indian Reservations Program Project Selections

AGENCY: Federal Transit Administration, DOT.

ACTION: Notice of Award.

SUMMARY: The Federal Transit Administration (FTA) announces the selection of projects to be funded using Fiscal Year (FY) 2010 appropriations for the Tribal Transit Program, a program authorized by the Safe, Accountable, Flexible, Efficient Transportation Equity Act: A Legacy for Users (SAFETEA-LU), Section 3013(c).

FOR FURTHER INFORMATION CONTACT: Contact the appropriate FTA regional Tribal Liaison, (Appendix) for application-specific information and issues. For general program information, contact Lorna R. Wilson, Office of Transit Programs, at (202) 366-2053, e-mail: Lorna.Wilson@dot.gov. A TDD is available at 1-800-877-8339 (TDD/FIRS).

SUPPLEMENTARY INFORMATION: The Tribal Transit Program (TTP) established by Section 3013(c) SAFETEA-LU, Public Law 109-49 (August 15, 2005), under 49 U.S.C. 5311(c) makes funds available to federally recognized Indian Tribes or Alaska Native villages, groups, or communities as identified by the Bureau of Indian Affairs (BIA) in the U.S. Department of the Interior for public transportation capital projects, operating costs and planning activities that are eligible costs under the Nonurbanized Area Formula Program (Section 5311).

Awards: A total of $15,074,963 million was made available for FY 2010 Tribal Transit program. This amount includes $74,963 in lapsing funds from previously funded projects. A total of 96 applicants requested $36.8 million for new transit services, enhancement or expansion of existing transit services, and planning studies including operational planning. FTA made project selections through a competitive process based on each applicant's responsiveness to the program evaluation criteria outlined in FTA's, May 13, 2010 Federal Register (75 FR 27114), Notice of Funding Availability: Solicitation for FY 2010 Tribal Transit Program. FTA also took into consideration the current status of previously funded TTP grantees. Because of the high demand, many applicants selected for funding will receive less funding than requested, which enables FTA to support an increased number of meritorious applications. Where reduced funding was received, FTA has specified in the table of projects the scope that was funded. A total of 59 applications have been selected for funding. The projects selected will provide funding for transit planning studies and/or operational planning ($50,000); startup projects for new transit service ($2,747, 693); and for the operational expenses of existing transit services ($12,277,270).

Following publication of this Notice, an FTA regional tribal liaison will contact each applicant selected for funding to discuss each tribe's specific technical assistance needs.

In the event the contact information provided by your tribe in the application has changed, please contact your tribal liaison with the current information in order to expedite the grant award process.

Issued in Washington, DC, this 24th day of February, 2011.
Peter Rogoff,
Administrator.

Appendix—FTA Regional Offices and Tribal Transit Liaisons

Region I—Massachusetts, Rhode Island, Connecticut, New Hampshire, Vermont and Maine—Mary E. Mello, FTA Regional Administrator, Volpe National Transportation Systems Center, Kendall Square, 55 Broadway, Suite 920, Cambridge, MA 02142-1093, Phone: (617) 494-2055, Fax: (617) 494-2865, Regional Tribal Liaison(s): Laurie Ansaldi and Judi Molloy.

Region II—New York, New Jersey—Brigid Hynes-Cherin, FTA Regional Administrator, One Bowling Green, Room 429, New York, NY 10004-1415, Phone: (212) 668-2170, Fax: (212) 668-2136, Regional Tribal Liaison: Darin Allan.

Region III—Pennsylvania, Maryland, Virginia, West Virginia, Delaware, Washington, DC, Letitia Thompson, FTA Regional Administrator, 1760 Market Street, Suite 500, Philadelphia, PA 19103-4124, Phone: (215) 656-7100, Fax: (215) 656-7260. (NO TRIBES)

Region IV—Georgia, North Carolina, South Carolina, Florida, Mississippi, Tennessee, Kentucky, Alabama, Puerto Rico, Virgin Islands—Yvette G. Taylor, FTA Regional Administrator, 230 Peachtree St., N.W., Suite 800, Atlanta, GA 30303, Tel.: 404-865-5600, Fax: 404-865-5600, Regional Tribal Liaisons: Jamie Pfister and Tajsha LaShore.

Region V—Illinois, Indiana, Ohio, Wisconsin, Minnesota, Michigan—Marisol R. Simon, FTA Regional Administrator, 200 West Adams Street, Suite 320, Chicago, IL 60606-5232, Phone: (312) 353-2789, Fax: (312) 886-0351, Regional Tribal Liaisons: Joyce Taylor and Angelica Salgado.

Region VI—Texas, New Mexico, Louisiana, Arkansas, Oklahoma—Robert Patrick, FTA Regional Administrator, 819 Taylor Street, Room 8A36, Ft. Worth, TX 76102, Phone: (817) 978-0550, Fax: (817) 978-0575, Regional Tribal Liaison: Lynn Hayes.

Region VII—Iowa, Nebraska, Kansas, Missouri—Mokhtee Ahmad, FTA Regional Administrator, 901 Locust Street, Suite 404, Kansas City, MO 64106, Phone: (816) 329-3920, Fax: (816) 329-3921, Regional Tribal Liaisons: Joni Roeseler and Cathy Monroe.

Region VIII—Colorado, North Dakota, South Dakota, Montana, Wyoming, Utah—Terry Rosapep, FTA Regional Administrator, 12300 West Dakota Avenue, Suite 310, Lakewood, CO 80228-2583, Phone: (720) 963-3300, Fax: (720) 963-3333, Regional Tribal Liaisons: Jennifer Stewart and David Beckhouse.

Region IX—California, Arizona, Nevada, Hawaii, American Samoa, Guam—Leslie Rogers, FTA Regional Administrator, 201 Mission Street, Suite 1650, San Francisco, CA 94105-1926, Phone: (415) 744-3133, Fax: (415) 744-2726, Regional Tribal Liaison: Eric Eidlin.

Region X—Washington, Oregon, Idaho, Alaska—Richard Krochalis, FTA Regional Administrator, Jackson Federal Building, 915 Second Avenue, Suite 3142, Seattle, WA 98174-1002, Phone: (206) 220-7954, Fax: (206) 220-7959, Regional Tribal Liaison: Bill Ramos.

BILLING CODE 4910-57-P

[FR Doc. 2011-4569 Filed 3-1-11; 8:45 am]

BILLING CODE 4910-57-C